DEPARTMENT OF THE INTERIOR

National Park Service

[NPS-WASO-NAGPRA-NPS0036501; PPWOCRADN0-PCU00RP14.R50000]

Notice of Intent To Repatriate Cultural Items: St. Joseph Museums, Inc., St. Joseph, MO

AGENCY: National Park Service, Interior.

ACTION: Notice.

SUMMARY: In accordance with the Native American Graves Protection and Repatriation Act (NAGPRA), the St. Joseph Museums, Inc., intends to repatriate a certain cultural item that meets the definition of an unassociated funerary object and certain cultural items that meet the definition objects of cultural patrimony, and that have a cultural affiliation with the Indian Tribes or Native Hawaiian organizations in this notice. The cultural items were removed from Lincoln, NE, and from somewhere near St. Louis, MO.

DATES: Repatriation of the cultural items in this notice may occur on or after October 2, 2023.

ADDRESSES: Tori Zieger; St. Joseph Museums, Inc., P.O. Box 8096, St. Joseph, MO 64508, telephone (816) 752-2778, email tori@stjosephmuseum.org.

SUPPLEMENTARY INFORMATION: This notice is published as part of the National Park Service's administrative responsibilities under NAGPRA. The determinations in this notice are the sole responsibility of the St. Joseph Museums, Inc. The National Park Service is not responsible for the determinations in this notice. Additional information on the determinations in this notice, including the results of consultation, can be found in the summary or related records held by the St. Joseph Museums, Inc.

Description

Two objects of cultural patrimony were removed from Lincoln, Nebraska. The two objects of cultural patrimony are an Osage “war” bundle and a Song List for a Counting Stick. They were purchased by Harry L. George on two separate occasions in 1915. The Harry L. George Collection of approximately 4,000 American Indian items became the cornerstone of the St. Joseph Museum in the 1940s.

One unassociated funerary object was removed from somewhere near St. Louis, Missouri. The unassociated funerary object is a “wampum”/shell bead necklace with a projectile point. It was collected from a grave in 1889.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: archeological, historical, and expert opinion.

Determinations

Pursuant to NAGPRA and its implementing regulations, and after consultation with the appropriate Indian Tribes and Native Hawaiian organizations, the St. Joseph Museums, Inc. has determined that:

• One cultural item described above is reasonably believed to have been placed with or near individual human remains at the time of death or later as part of the death rite or ceremony and are believed, by a preponderance of the evidence, to have been removed from a specific burial site of a Native American individual.

• Two cultural items described above have ongoing historical, traditional, or cultural importance central to the Native American group or culture itself, rather than property owned by an individual.

• There is a relationship of shared group identity that can be reasonably traced between the cultural items and The Osage Nation.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after October 2, 2023. If competing requests for repatriation are received, the St. Joseph Museums, Inc. must determine the most appropriate requestor prior to repatriation. Requests for joint repatriation of the cultural items are considered a single request and not competing requests. The St. Joseph Museums, Inc. is responsible for sending a copy of this notice to the Indian Tribe identified in this notice.

Authority: Native American Graves Protection and Repatriation Act, 25 U.S.C. 3003, and the implementing regulations, 43 CFR 10.8, 10.10, and 10.14.

Dated: August 23, 2023.
Melanie O'Brien,
Manager, National NAGPRA Program.

[FR Doc. 2023-18826 Filed 8-30-23; 8:45 am]

BILLING CODE 4312-52-P